DEPARTMENT OF STATE

[Public Notice: 11555]

Privacy Act of 1974; System of Records

ACTION: Rescindment of a system of records notice.

SUMMARY: The “Overseas Records, State-25”, which is being rescinded, contains information used to provide services to individuals having reason to interact with a U.S. post overseas.

DATES: On September 8, 2016, the Department of State published a notice in the Federal Register (81 FR 62235) that records in State-25 were being consolidated with “Overseas Citizens Services, State-05” into a single modified State-05 (retitled “Overseas Citizens Services Records and Other Overseas Records”) because the records and system purposes were substantially similar. Records not covered by State-05 either no longer exist or are covered by other SORNs. The consolidation of these two systems of records into State-05 became effective on October 18, 2016.

ADDRESSES: Questions can be submitted by mail, email, or by calling Eric F. Stein, the Senior Agency Official for Privacy on (202) 485-2051. If mail, please write to: U.S Department of State; Office of Global Information Systems, A/GIS; Room 1417, 2201 C St. NW; Washington, DC 20520. If email, please address the email to the Senior Agency Official for Privacy, Eric F. Stein, at Privacy@state.gov. Please write “Overseas Records, State-25” on the envelope or the subject line of your email.

FOR FURTHER INFORMATION CONTACT: Eric F. Stein, Senior Agency Official for Privacy; U.S. Department of State; Office of Global Information Services, A/GIS; Room 1417, 2201 C St. NW; Washington, DC 20520 or by calling on (202) 485-2051.

SUPPLEMENTARY INFORMATION: The records in “Overseas Records, State-25” (originally published at 42 FR 49711) were consolidated with “Overseas Citizens Services Records, State-05” (previously published at 73 FR 24342). The new SORN reflecting the consolidated systems of records “Overseas Citizens Services Records and Other Overseas Records, State-05” was published at 81 FR 62235 on September 8, 2016.

SYSTEM NAME AND NUMBER:

Overseas Records, State-25.

HISTORY:

“Overseas Records, State-25” was previously published at 42 FR 49711. “Overseas Citizens Services Records, State-05” was previously published at 73 FR 24342 before being modified and re-published at 81 FR 62235.

Eric F. Stein,
Acting Deputy Assistant Secretary, Bureau of Administration, Global Information Services, U.S. Department of State.

[FR Doc. 2021-21551 Filed 10-1-21; 8:45 am]

BILLING CODE 4710-06-P